DEPARTMENT OF JUSTICE

Notice of Lodging of Consent Decree Under the Clean Air Act

Notice is hereby given that on March 1, 2010, a proposed consent decree (“proposed decree”) in the United States of America v. DEGs of Narrows, LLC., Civil Action No. 7:10CV00085 was lodged with the United States District Court for the Western District of Virginia.

In this action the United States sought civil penalties for alleged violations of the Clean Air Act at the DEGs of Narrows, LLC facility in Narrows, Virginia. The complaint alleged that DEGs of Narrows, LLC violated the Clean Air Act, Sections 110, 112 and 502 of the CAA, 42, U.S.C. 7410, 7412, and 7661a, by failing to comply with the Commonwealth of Virginia's State Implementation Plan requirements for the Virigina NOx Budget Trading Program in 9 VAC 5-140 et seq, failing to comply with the Title V permit for the facility, and failing to comply with leak detection and repair requirements for the facility's methylene chloride system. Under the terms of the proposed decree, DEGS of Narrows, LLC will pay a civil penalty of $310,000.

The Department of Justice will receive for a period of thirty (30) days from the date of this publication comments relating to the proposed decree. Comments should be addressed to the Assistant Attorney General, Environment and Natural Resources Division, and either e-mailed to pubcomment-ees.enrd@usdoj.gov or mailed to P.O. Box 7611, U.S. Department of Justice, Washington, DC 20044-7611, and should refer to United States of America v. DEGs of Narrows, LLC., D.J. Ref. 90-5-2-1-09375.

The proposed decree may be examined at the Office of the United States Attorney, 310 1st Street, SW., Room 906, Roanoke, Virginia 24011, and at U.S. EPA Region III, 1650 Arch Street, Philadelphia, PA 19103-2029. During the public comment period, the proposed decree may also be examined on the following Department of Justice Web site, to http://www.usdoj.gov/enrd/Consent_Decrees.html. A copy of the proposed decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.25 (25 cents per page reproduction cost) payable to the U.S. Treasury or, if by e-mail or fax, forward a check in that amount to the Consent Decree Library at the stated address.

Maureen Katz,
Assistant Chief, Environmental Enforcement Section, Environment and Natural Resources, Division.

[FR Doc. 2010-4790 Filed 3-5-10; 8:45 am]

BILLING CODE P